DEPARTMENT OF TRANSPORTATION

Federal Transit Administration

Intent To Prepare an Environmental Impact Statement and Environmental Assessment for the I-20 East Transit Initiative in the City of Atlanta and DeKalb County, GA

AGENCY: Federal Transit Administration (FTA), Department of Transportation.

ACTION: Notice of Intent to prepare an Environmental Impact Statement (EIS) and Environmental Assessment (EA).

SUMMARY: The Federal Transit Administration (FTA) and the Metropolitan Atlanta Rapid Transit Authority (MARTA) intend to prepare an Environmental Impact Statement (EIS) for MARTA's I-20 East Transit Initiative project, which would extend the existing east-west rail line from the Indian Creek Station to the Mall at Stonecrest in eastern DeKalb County and an Environmental Assessment (EA) for a new Bus Rapid Transit (BRT) service along I-20 between downtown Atlanta and a new station at Wesley Chapel Road, east of I-285 in DeKalb County. The EIS and EA will be prepared in accordance with the National Environmental Policy Act (NEPA), provisions of the Safe, Accountable, Flexible, Efficient Transportation Equity Act: A Legacy for Users (SAFETEA-LU), and will also address the requirements of other federal and state environmental laws. The extension of the existing MARTA east-west rail line and the new BRT service along I-20 were selected as the Locally Preferred Alternative (LPA) based on a two year Detailed Corridor Analysis (DCA) completed in April 2012. The DCA revisited the analysis and conclusions of the I-20 East Corridor Study Alternatives Analysis (AA) completed in 2004 and complied with FTA's New Starts project development process.

The purpose of this Notice of Intent (NOI) is to advise interested agencies and the public regarding the plan to prepare the EIS and EA, to provide information on the nature of the proposed transit project, to invite participation in the NEPA process, including comments on the scope of the EIS and EA proposed in this notice, and to announce where and when public scoping meetings will be conducted. Scoping meetings are an opportunity for government agencies, affected stakeholders, and the general public to provide input and feedback on the project Purpose and Need, the alternatives to be studied, as well as to identify any significant physical, cultural, natural, and social environmental issues within the study area.

DATES: Comment Due Date: Written comments on the scope of the EIS and EA must be sent to Janide Sidifall, Project Manager, MARTA by October 15, 2012.

Scoping Meetings: Public scoping meetings will be held on September 10, 11, and 13 at locations within the study area. These meetings will be the fourth round of public outreach meetings held for the I-20 East Transit Initiative, and are an opportunity for MARTA to present the I-20 East LPA to the public. The times and locations of these meetings are indicated under ADDRESSES below. Interagency scoping meetings will be held in September, 2012.

ADDRESSES: Written Comments: Written comments on the scope of the EIS and EA, including the project's Purpose and Need, the impacts to be evaluated, and methodologies to be used in the evaluations, must be sent to Janide Sidifall, Project Manager, MARTA, 2424 Piedmont Road NE., Atlanta, GA 30324-3330. Comments may also be offered at the public scoping meetings. Written comments should be submitted within two weeks of the final scoping meeting or 30 days within the publication of the final NOI, whichever is later.

Scoping Meetings: The dates, times, and locations for the public scoping meetings are:

Meeting 1: Monday, September 10, 2012, 6:00 p.m.-8:00 p.m., Trees Atlanta 225 Chester Avenue, Atlanta, GA 30316

Meeting 2: Tuesday, September 11, 2012, 6:00 p.m.-8:00 p.m., Porter Sanford III Performing Arts Center, 3181 Rainbow Drive, Decatur, Georgia 30034

Meeting 3: Thursday, September 13, 2012, 6:00 p.m.-8:00 p.m., Lou Walker Senior Center, 2538 Panola Road, Lithonia, GA 30058

The appropriate federal, state, and local agencies will be notified individually about the time and location of the interagency scoping meeting.

The locations of the public scoping meetings are accessible to persons with disabilities. If translation, signing services, or other special accommodations are needed, please contact Jen Price at (404) 377-9147 or for hearing impaired TTY 404-848-5665 at least 48 hours before the meeting. A scoping information booklet will be available one week prior to the meetings on the project web site at: http://www.itsmarta.com/120-east-corr.aspx. Copies will also be available at the scoping meetings.

FOR FURTHER INFORMATION CONTACT: Brian C. Smart, Environmental Protection Specialist, Federal Transit Administration—Region IV, 230 Peachtree Street, NW—Suite 800, Atlanta, GA 30303, Telephone: (404) 865-5607; Facsimile: (404) 865-5490; Email: brian.smart@dot.gov; or Janide Sidifall, Office of Transit Systems Planning, MARTA, 2424 Piedmont Road, NE, Atlanta, GA 30324-3330, Telephone: (404) 848-5828; Facsimile (404) 848-5132; Email: jsidifall@itsmarta.com.

SUPPLEMENTARY INFORMATION:

Scoping

FTA and MARTA will undertake a scoping process that will allow the public and interested agencies to comment on the scope of the environmental review process. Scoping is the process of determining the scope, focus, and content of the EIS and EA. NEPA scoping has specific objectives, identifying the significant issues that will be examined in detail during the EIS and EA, while simultaneously limiting consideration and development of issues that are not truly significant. FTA and MARTA invite all interested individuals and organizations, public agencies, and Native American tribes to comment on the scope of the EIS and EA. To facilitate public and agency comment, a Scoping Information Packet will be prepared for review. Included in this packet will be descriptions of: the Purpose and Need for the project; the alternatives to be studied; the impacts to be assessed; and the draft public outreach and agency coordination plan.

Description of Proposed Projects and Study Areas

The first phase of the I-20 East Transit Initiative was a two year long DCA. This DCA built upon the transit studies previously completed in the corridor and conformed with FTA's New Starts project development process. The DCA identified and evaluated transit improvements in the I-20 East Corridor from downtown Atlanta to the Mall at Stonecrest, in eastern DeKalb County. The result of the DCA was an LPA which includes the extension of the existing east-west heavy rail transit (HRT) line from the Indian Creek Station to the Mall at Stonecrest in eastern DeKalb County and a new BRT service along I-20 between downtown Atlanta and a new station at Wesley Chapel Road, east of I-285 in DeKalb County.

The EIS, which will focus on the HRT extension, has a study area that extends from the MARTA Indian Creek Station south for 3.5 miles along I-285, then east for approximately 8.5 miles to the Mall at Stonecrest. The EA, which will focus on the new BRT service, has a study area that extends from the MARTA Five Points Station in downtown Atlanta, south along surface streets to I-20, then east along I-20 for approximately 11.5 miles to Wesley Chapel Road in DeKalb County. Both study areas will extend up to ½ mile on each side of the alignment in order to evaluate the direct, indirect, and cumulative impacts associated with the implementation of transit in the corridor.

Project Purpose and Need

The purpose of the proposed project is to enhance east-west mobility and improve transit accessibility to residential areas and employment centers within the corridor. The existing and future roadway congestion in the I-20 East corridor will have an increasingly detrimental effect on automobile and bus transit travel in the corridor. The proposed transit investments are intended to improve travel times and travel reliability by providing a rapid transit service for commuters traveling to and from central Atlanta.

The need for the proposed project is based on the following considerations of the I-20 East Corridor. There is a need for improved mobility and accessibility in the corridor, as traffic congestion causes delay and slow travel times and there is inadequate access to downtown Atlanta and other employment centers; there is a need for additional travel options in the corridor, which has limited east-west roadways, making I-20 the primary choice for east-west travel in the corridor, and only a limited number of roadway transportation projects or capacity improvements are planned in the corridor to accommodate growth; there is a need for improved transit service in the corridor, which is insufficient for a growing demand, as it consists primarily of local and express buses operating in normal traffic, and which provides limited transportation options for traditionally underserved populations such as minority, low income, transit dependent, and elderly populations; and finally, there is a need to support land use and land and economic development goals within the corridor, areas of which are in need of revitalization.

Study Alternatives

MARTA recently completed a two year long DCA that evaluated potential alignments and transit technologies for transit improvements in the I-20 East Corridor. From multiple alignment and transit technology alternatives, an LPA was selected and adopted by the MARTA Board of Directors in April 2012. The EIS and EA will evaluate vertical and horizontal alternatives of the adopted LPA as well as a No-Build alternative. These LPA and No-Build alternatives are described as follows:

1. No Build Alternative: This alternative reflects the existing transportation system plus any committed transportation projects. This alternative does not include a major transit investment in the I-20 East Corridor as proposed in the LPA. The No Build Alternative includes only existing or committed MARTA and GRTA local and express bus service in the corridor and any other transportation investment included in the Atlanta Regional Commission's (ARC) long-range transportation plan. ARC is the Metropolitan Planning Organization (MPO) for the Atlanta urbanized area. NEPA requires the consideration of a No Build Alternative as a means of comparing and evaluating the impacts and benefits of the Build Alternative.

2. Locally Preferred Alternative (LPA): The LPA, as adopted by the MARTA Board of Directors, includes two projects:

a. (1) The extension of the existing east-west heavy rail transit (HRT) line from the Indian Creek Station to the Mall at Stonecrest in southeast DeKalb County and

b. (2) New BRT service along I-20 between downtown Atlanta and a new BRT station at Wesley Chapel Road, east of I-285 in DeKalb County. While the HRT and BRT portions of the LPA both address the need for improved mobility and transit service in the I-20 East Corridor, they represent significantly different transit investments and modes.

For this reason, the HRT extension will be evaluated as the Build Alternative in the EIS and the BRT service will be evaluated as the Build Alternative in the EA. However, since the adopted LPA is a combination of both HRT and BRT, the EIS and EA will be undertaken concurrently with all public outreach presenting information and analysis for both.

The Build Alternative to be evaluated in the EIS is the extension of the existing MARTA east-west HRT line from the Indian Creek Station, south parallel to I-285, then east parallel to I-20 to the Mall at Stonecrest in eastern DeKalb County. The HRT service would include new stations at Covington Highway, Wesley Chapel Road, Panola Road, Lithonia Industrial Blvd., and the Mall at Stonecrest. The HRT alignment would generally be located adjacent to the interstate and would utilize Georgia Department of Transportation (GDOT) right-of-way wherever possible.

The Build Alternative to be evaluated in the EA is a new BRT service between downtown Atlanta and Wesley Chapel Road, operating in HOV lanes on I-20 as much as possible and utilizing surface streets within downtown Atlanta. The BRT service would be a fixed-route, branded, high frequency, all day service utilizing transit stations rather than typical bus stops. From east to west, the BRT service would start at the proposed Wesley Chapel Road HRT/BRT station and utilize the HOV lanes and transit/HOV interchanges to access stations at Candler Road and Gresham Road, then serve stations at Glenwood Avenue, Moreland Avenue, and Bill Kennedy Way/Atlanta BeltLine before terminating at the Five Points Station in downtown Atlanta. The service would utilize arterial BRT enhancements such as Transit Signal Priority (TSP) and queue jumper lanes to maximize the efficiency of surface street operations where necessary.

Scope of Environmental Analysis

FTA and MARTA will evaluate both project-specific and secondary and cumulative effects to the physical, cultural, natural, and social environment in the I-20 East Corridor. The permanent, long-term effects to the region could include effects to traffic and transportation; land use and socioeconomics; visual character and aesthetics; noise and vibration; historical and archaeological resources; community impacts; and natural resources. Temporary impacts during construction of the project could include effects to air quality; noise and vibration; natural resources; and contaminated and hazardous materials.

In accordance with 23 CFR 771.105 (a) and 771.133, FTA will comply with all Federal environmental laws, regulations, and executive orders applicable to the proposed project during the environmental review process to the maximum extent practicable. These requirements include, but are not limited to, the regulations of the Council on Environmental Quality, FTA implementing NEPA (40 CFR parts 1500-1508 and 23 CFR Part 771), the project-level air quality conformity regulation of the U.S. Environmental Protection Agency (EPA) (40 CFR part 93), and Section 404 (B) (1) guidelines of EPA (40 CFR part 230), the regulation implementing Section 106 of the National Historic Preservation Act (36 CFR Part 800) and Section 4(f) of the Department of Transportation Act (23 CFR 771.135)), the regulation implementing Section 7 of the Endangered Species Act (50 CFR part 402) Executive Orders 12898 regarding minority and low-income populations, 11988 on floodplain management, and 11990 on wetlands, the Clean Water Act and the Clean Air Act of 1970, along with other applicable Federal and State regulations. Opportunities for comment on the potential effects to be studied will be provided to the public, and comments received will be considered in the development of the final scope and content of the environmental documents.

Procedures

The regulations implementing NEPA, as well as provisions of SAFETEA-LU, call for public involvement in the NEPA process. In accordance with Section 6002 of SAFETEA-LU, FTA and MARTA will: (1) Extend an invitation to other Federal and non-Federal agencies and Native American Tribes that may have an interest in the proposed project to become “participating agencies” (any interested party that does not receive an invitation to become a participating agency can notify any of the contact persons listed earlier in this NOI); (2) Provide opportunity for involvement by participating agencies and the public to help define the Purpose and Need for the proposed project, as well as the range of alternatives for consideration in the EIS and EA; and (3) Establish a plan for coordinating public and agency participation in, and comment on, the environmental review process.

It is possible that we may not be able to identify all Federal and non-federal agencies and Indian tribes that may have an interest in the proposed project. Any Federal or non-Federal agency or Indian tribe interested in the proposed project that does not receive an invitation to become a participating agency should notify at the earliest opportunity the Project Manager identified above under ADDRESSES.

A Public Involvement Plan and an Agency Coordination Plan will be developed outlining public and agency involvement for the project. These will be available on the project Web site or through written request. Opportunities for comment will be provided throughout the NEPA process, including public and agency meetings, the project Web site http://www.itsmarta.com/120-east-corr.aspx, a mailing address (identified above under ADDRESSES), and project newsletters. Comments received from any of these sources will be considered in the development of the final scope and content of the environmental documents.

With the publication of this NOI, the scoping process for the project begins. After the publication of the Draft Scoping Document, a public comment period will begin, allowing the public to offer input on the scope of the EIS and EA until October 15, 2012. Public comments will be received through those methods explained earlier in this NOI and will be incorporated into a Final Scoping Document. This document will detail the scope of the EIS and EA as well as the potential environmental effects that will be considered during the study period. After the completion of the Draft EIS and EA, another public commenting period will allow for input on the EIS and EA, and these comments will be incorporated into the Final EIS and EA/Finding of No Significant Impact (FONSI) reports before publication.

FTA may identify a locally preferred alternative in the DEIS when made available for public and agency comments. Public hearings on the DEIS will be held in DeKalb County. On the basis of the DEIS and the public and agency comments received, FTA will identify the locally preferred alternative in the FEIS. The FEIS will serve as the basis for Federal and State environmental findings and determinations needed to conclude the environmental review process.

Issued on: August 15, 2012.
Yvette G. Taylor,
Regional Administrator.

[FR Doc. 2012-21222 Filed 8-27-12; 8:45 am]

BILLING CODE P